DEPARTMENT OF TRANSPORTATION

Surface Transportation Board

[STB Finance Docket No. 35333]

Burlington Shortline Railroad, Inc. d/b/a Burlington Junction Railway—Lease and Operation Exemption—BNSF Railway Company

Burlington Shortline Railroad, Inc. d/b/a Burlington Junction Railway (BJRY), a Class III carrier, has filed a verified notice of exemption under 49 CFR 1150.41 to lease and to operate, pursuant to a lease agreement (Agreement) entered into on December 4, 2009, with BNSF Railway Company (BNSF), approximately 3.5 miles of BNSF's rail line (the Valley Park Lines), and currently operated by Missouri and Valley Park Railroad (MVPR),¹ between milepost 18.36 and milepost 20.50, near West Valley Park, St. Louis County, MO.²

¹ MVPR's operations on the Valley Park Lines will terminate on January 29, 2010.

² The rail properties being leased consist of industrial trackage and yard office buildings located on the South Side of BNSF's Cuba Subdivision Main Line, including all of BNSF's trackage and other improvements located adjacent to BNSF's Main Line, and an office building owned by BNSF located at 2150 Bowles Avenue, in Fenton, MO.

BJRY states that the Valley Park Lines connect with BNSF's Cuba Subdivision Main Line at milepost 18.36. BJRY also states that its Agreement does not prohibit BJRY from interchanging with other carriers. The Agreement does contain a provision requiring BJRY to remit supplemental rent to BNSF for each carload originating or terminating on the Valley Park Lines that is interchanged with a carrier other than BNSF. Accordingly, BJRY has concurrently filed with its notice a complete version of the Agreement, marked “confidential” and submitted under seal pursuant to 49 CFR 1104.14(a) and 1150.43(h)(1)(ii).

BJRY certifies that its projected annual revenues as a result of this transaction would not result in BJRY becoming a Class II or Class I rail carrier and further certifies that its projected revenues will not exceed $5 million.

BJRY states that it intends to assume operation of the Valley Park Lines and related properties on or about January 30, 2010. The earliest this transaction may be consummated is January 14, 2010, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than January 7, 2010 (at least 7 days before the exemption becomes effective).

An original and 10 copies of all pleadings, referring to STB Finance Docket No. 35333, must be filed with the Surface Transportation Board, 395 E Street, SW., Washington, DC 20423-0001. In addition, a copy of each pleading must be served on James H.M. Savage, Of Counsel, John D. Heffner, PLLC, 1750 K Street, NW., Suite 200, Washington, DC 20006.

Board decisions and notices are available on our Web site at http://www.stb.dot.gov.

Decided: December 24, 2009.
By the Board, Rachel D. Campbell, Director, Office of Proceedings.
Andrea Pope-Matheson,
Clearance Clerk.

[FR Doc. E9-31038 Filed 12-30-09; 8:45 am]

BILLING CODE 4915-01-P